DEPARTMENT OF AGRICULTURE

Submission for OMB Review; Comment Request

March 15, 2013.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by April 19, 2013 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Federal Plant Pest, Noxious Weed, and Garbage Regulations.

OMB Control Number: 0579-0054.

Summary of Collection: In accordance with Section 412 of the Plant Protection Act (Title IV, Pub. L. 106-224, 114 Stat. 438, 7 U.S.C. 7712), the Secretary of Agriculture is authorized to prohibit or restrict the importation, entry, exportation, or movement of interstate commerce of any plant, plant product, biological control organism, noxious weed, article, or means of conveyance, if the Secretary determines that the prohibition or restriction is necessary to prevent the introduction or dissemination of a plant pest or noxious weed within the United States. Animal and Plant Health Inspection Service's (APHIS) regulations implementing the Plant Protection Act are contained (in part) in part 330 of Title 7, Code of Federal Regulations and part 360 of Title 7, Code of Federal Regulations.

Need and Use of the Information: APHIS will collect information to evaluate the risk associated with the interstate movement of plant pest, noxious weeds, and soil. APHIS will also collect information to monitor operations at facility to ensure permit conditions are being met. The information is used to determine whether a permit can be issued, and also to develop risk-mitigating conditions for the proposed movement. If the information were not collected, APHIS ability to protect the United States from a plant pest or noxious weed incursion would be significantly compromised.

Description of Respondents: Business or other for-profit; Individuals or households; State, Local or Tribal Government

Number of Respondents: 25,755.

Frequency of Responses: Recordkeeping; Reporting: On occasion.

Total Burden Hours: 18,418.

Animal Plant and Health Inspection Service

Title: Irradiation Phytosanitary Treatment for Fresh Fruits and Vegetables.

OMB Control Number: 0579-0155.

Summary of Collection: The Plant Protection Act (7 U.S.C. 7701-7772), the Animal and Plant Health Inspection Service (APHIS) is authorized, among other things, to regulate the importation of plants, plant products, and other articles to prevent the introduction of plant pests into the United States. Regulations in 7 CFR 305 provide for the use of irradiation as a phytosanitary treatment for certain fruits and vegetables imported in the United States. The irradiation treatment provides protection against all inspect pest including fruit flies, the mango seed weevil, and others.

Need and Use of the Information: APHIS will collect information using a compliance agreement, 30-day notification, labeling packaging, dosimetry recordings, requests for dosimetry device approval, recordkeeping, requests for facility approval, work plan, trust fund agreement, phytosanitary certificate and denial and withdrawal certification. Without the collection of this information, APHIS would have no practical way of determining that any given commodity had actually been irradiated.

Description of Respondents: Business or other for profit; Federal Government.

Number of Respondents: 88.

Frequency of Responses: Recordkeeping; Reporting: On occasion.

Total Burden Hours: 332.

Animal and Plant Health Inspection Service

Title: APHIS Pest Reporting Form.

OMB Control Number: 0579-0311.

Summary of Collection: Under the Plant Protection Act (7 U.S.C. 7701—et seq), the Secretary of Agriculture is authorized to carry out operations or measures to detect, eradicate, suppress, control, prevent, or retard the spread of plant pests new to the United States or not known to be widely distributed throughout the United States. Plant health regulations promulgated by the United States Department of Agriculture under this authority specifically address control programs for a number of pests and disease of concern, including Asian Longhorn Beetle (ALB), emerald ash borer (EAB) beetle, and citrus greening, to name a few. The Animal and Plant Health Inspection Service (APHIS) will collect information using form PPQ-10, Plant Protection and Quarantine Pest Reporting Form.

Need and Use of the Information: APHIS relies on the public to report sightings of the pests of concern or suspicious signs of pest or disease damage that may see in their local area. This reporting is done through a simple online form. The following information will be collected from the form: Contact information, location and date of sighting, location and date of search and signs or symptoms of pest or disease damage observed. Failing to collect this information could result in APHIS not receiving information about where infestations may exist, causing them to linger unreported and grow.

Infestations of high-consequence pests or diseases, such as ALB, EAB, citrus greening, and others, could lead to significant economic damage to crops, forests, and landscapes.

Description of Respondents: Individuals or households.

Number of Respondents: 5,000.

Frequency of Responses: Reporting: On occasion.

Total Burden Hours: 415.

Ruth Brown,
Departmental Information Collection Clearance Officer.

[FR Doc. 2013-06389 Filed 3-19-13; 8:45 am]

BILLING CODE 3410-34-P